FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the reporting, recordkeeping, and disclosure requirements associated with the Market Risk Capital Rule (FR 4201; OMB No. 7100-0314).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above.

Final Approval Under OMB Delegated Authority of the Extension for Three Years, With Revision, of the Following Information Collection

Collection title: Market Risk Capital Rule (see the current actions section for information about a change to the collection title and collection identifier).

Collection identifier: FR 4201.

OMB control number: 7100-0314.

Dates: The revisions are applicable as of April 26, 2024.

General description of collection: The market risk rule, which requires banking organizations to hold capital to cover their exposure to market risk, is a component of the Board's regulatory capital framework, Regulation Q—Capital Adequacy of Bank Holding Companies, Savings and Loan Holding Companies, and State Member Banks (12 CFR part 217). The rule includes information collections that permit the Board to monitor the market risk profile of Board-regulated banking organizations that have significant market risk. These information collections provide current statistical data identifying market risk areas on which to focus onsite and offsite examinations. They also allow the Board to assess the levels and components of each reporting institution's risk-based capital requirements for market risk and the adequacy of the institution's capital under the market risk rule.

Frequency: Annual, quarterly, and on occasion.

Respondents: Bank holding companies, covered savings and loan holding companies,¹ U.S. intermediate holding companies of foreign banking organizations, and state member banks (collectively, banking organizations) that meet certain risk thresholds. The market risk rule applies to any such banking organization with aggregate trading assets and trading liabilities equal to (1) 10 percent or more of quarter-end total assets or (2) $1 billion or more.

¹ For the definition of “covered savings and loan holding company,” see 12 CFR 217.2.

Total estimated number of respondents: 37.

Total estimated change in burden: 592.

Total estimated annual burden hours: 36,236.²

² More detailed information regarding this collection, including more detailed burden estimates, can be found in the OMB Supporting Statement posted at https://www.federalreserve.gov/apps/reportingforms/review. On the page displayed at the link, you can find the OMB Supporting Statement by referencing the collection identifier, FR 4201.

Current actions: On December 4, 2023, the Board published a notice in the Federal Register (88 FR 84141) requesting public comment for 60 days on the extension, with revision, of the FR 4201. The Board proposed revising the FR 4201 to account for a recordkeeping requirement in section 217.203(b)(2) of Regulation Q that had not been previously cleared by the Board. The comment period for this notice expired on February 2, 2024. The Board did not receive any comments. The revisions will be implemented as proposed. This information collection is currently titled “Market Risk Capital Rule” with a collection identifier of “FR 4201.” As part of this clearance, the collection title will be changed to “Reporting, Recordkeeping, and Disclosure Requirements Associated with Regulation Q (Market Risk Capital Rule)” and the collection identifier will be updated to “FR Q-2.” The purpose of this non-substantive change is to implement consistent nomenclature for information collections contained within a rule. This change would not modify the reporting, recordkeeping, or disclosure requirements in any way.

Board of Governors of the Federal Reserve System, April 23, 2024.
Michele Taylor Fennell,
Deputy Associate Secretary of the Board.

[FR Doc. 2024-09020 Filed 4-25-24; 8:45 am]

BILLING CODE P